DEPARTMENT OF COMMERCE

National Oceanic and Atmospheric Administration

15 CFR Part 922

Clarification of Procedures for the Sanctuary Nomination Process

AGENCY: Office of National Marine Sanctuaries (ONMS), National Ocean Service (NOS), National Oceanic and Atmospheric Administration (NOAA), Department of Commerce (DOC).

ACTION: Notification.

SUMMARY: The Office of National Marine Sanctuaries (ONMS) of the National Oceanic and Atmospheric Administration (NOAA) is clarifying procedures for the Sanctuary Nomination Process (SNP) established in 2014. Specifically, ONMS informs the public of how it intends to treat nominations that have been accepted to the inventory of sites for potential designation as national marine sanctuaries and have been on the inventory for five years.

DATES: The procedures for the Sanctuary Nomination Process set out in this document are effective on November 13, 2019.

ADDRESSES: Jessica Kondel, Policy and Planning Division Chief, 1305 East-West Highway, 11th Floor, Silver Spring, Maryland 20910; 240-533-0647; jessica.kondel@noaa.gov.

FOR FURTHER INFORMATION CONTACT: Jessica Kondel, Policy and Planning Division Chief, 240-533-0647, jessica.kondel@noaa.gov.

SUPPLEMENTARY INFORMATION:

Background

In 2014, NOAA issued a final rule re-establishing the process by which communities may submit nominations of areas of the marine and Great Lakes environment for NOAA to consider for designation as national marine sanctuaries (79 FR 33851). The final rule, which was promulgated at 15 CFR part 922, subpart B, describes the process for submitting nominations, known as the Sanctuary Nomination Process (SNP), describes the national significance criteria and management considerations that NOAA applies to evaluate nominations for inclusion in an inventory of areas that may be considered for future designation as national marine sanctuaries, and promulgates the regulations necessary for implementing the nomination process.

The preamble to the final rule establishing the SNP states that: “[i]f NOAA takes no designation action on a nomination in the inventory, the nomination will expire after five years from the time it is accepted to the inventory.” 79 FR 33851, 33855. In the preamble, NOAA also acknowledged that its implementation of the review process may evolve over time, in which case it would notify the public of any such process changes. See 79 FR 33851, 33855.

The intent behind the five-year expiration policy was to ensure that the inventory contains nominations that remain relevant based on original conditions. As the inventory of sanctuary nominations matures, some of the nominations may reach the five-year mark from the time they were accepted to the inventory without NOAA initiating the designation process. If a nomination remains responsive to the SNP criteria and considerations described in the final rule after five years, NOAA believes it may be appropriate to allow it to remain on the inventory for another five years.

To guide NOAA's determination of whether a nomination should remain on the inventory after five years, NOAA has identified a process by which the Agency will consider the continuing viability of nominations that are nearing the five-year expiration mark. With this document, NOAA is announcing that it intends to use the following process to evaluate a nomination as it approaches its five-year anniversary on the inventory:

1. NOAA will send a letter to the original nominating individual/party (“nominator”) at or around the four and a half-year mark of its time on the inventory to give the opportunity for the nominator to provide updates (such as more current nomination information as described in the 2014 final rule under “Step 1: Nomination Development” and “Step 2: Nomination Submission”, and/or new letters of support if available).

2. In addition to any response from the nominator, NOAA will update any relevant information on the nomination. Particular attention will be given to new public and agency/scientific information about the national significance of natural or cultural resources, as well as changes (increases or decreases) in the threats to the resources originally proposed for protection, and/or changes to the management frameworks in the area. In addition, NOAA will assess the level of community-based support for the nomination from a broad range of interests, and if that support has increased or decreased since the time of nomination. This information gathering on any or all of the national significance criteria and management considerations could take place through a public workshop or via a request by NOAA for written public comments.

3. NOAA will review the updated nomination against the SNP national significance criteria and management considerations to assess if the nomination is still accurate and relevant.

Following this public input and internal analysis, ONMS staff will provide the ONMS Director with a recommendation to maintain the nomination in the inventory, or remove it once the 5-year anniversary is reached. Whether removing or maintaining the nomination, NOAA would follow the same procedures for notifying the public as the ones followed when a nomination is submitted, including a letter to the nominator, a notice in the Federal Register, and posting information on “nominate.noaa.gov”.

NOAA is not nominating or designating any new national marine sanctuaries with this action. Any designations resulting from the nomination process would be conducted by NOAA through a separate process, and within the public participation standards enacted by the National Marine Sanctuaries Act (NMSA) and the National Environmental Policy Act. NOAA will follow all standards and requirements identified in the NMSA and its implementing regulations when, in the future, it considers any nomination for designation.

Authority: 16 U.S.C. 1431 et seq.

John Armor,
Director, Office of National Marine Sanctuaries.

[FR Doc. 2019-24577 Filed 11-12-19; 8:45 am]

BILLING CODE 3510-NK-P